DEPARTMENT OF HOUSING AND URBAN DEVELOPMENT

[Docket No. FR-5603-N-57]

Notice of Proposed Information Collection for Public Comment: Pre-Purchase Homeownership Counseling Demonstration and Impact Evaluation

AGENCY: Office of the Chief Information Officer, HUD.

ACTION: Notice.

SUMMARY: The proposed information collection requirement described below will be submitted to the Office of Management and Budget (OMB) for review, as required by the Paperwork Reduction Act. The Department is soliciting public comments on the subject proposal.

This request is for the clearance of data collection instruments designed to collect the information necessary to conduct a random assignment evaluation of pre-purchase homeownership counseling. The evaluation will produce valuable information about the impact of pre-purchase homeownership counseling on a range of outcomes for low- to moderate-income, first-time home buyers. This is the first OMB request for this evaluation.

DATES: Comments Due Date: September 21, 2012.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Relay Service (1-800-877-8339).

FOR FURTHER INFORMATION CONTACT: Colette Pollard, Reports Management Officer, QDAM, Department of Housing and Urban Development, 451 Seventh Street SW., Washington, DC 20410; email Colette Pollard at Colette.Pollard@hud.gov or telephone (202) 402-3400. This is not a toll-free number. Copies of available documents submitted to OMB may be obtained from Ms. Pollard. Copies of the proposed forms and other available information may be obtained from Ms. Pollard.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Pre-Purchase Homeownership Counseling Demonstration and Impact Evaluation.

OMB Control Number, if applicable: Pending.

Description of the need for the information and proposed use: This request is for the clearance of data collection instruments designed to collect the information necessary to conduct a random assignment evaluation of pre-purchase homeownership counseling. The evaluation will produce valuable information about the impact of pre-purchase homeownership counseling on a range of outcomes for low- to moderate-income, first-time home buyers. Up to 7,000 study participants will be recruited through branch offices and telephone centers of three national lenders in 20 jurisdictions throughout the country. Lender staff will ask potential homebuyers if they are interested in learning more about the study. If potential homebuyers are interested in learning more about the study, then the lender will pass potential homebuyers' contact information to the study team. The study team will then contact those potential homebuyers to explore study participation and complete an informed consent agreement, an eligibility assessment, and baseline survey. To achieve 7,000 enrolled study participants, the intake and eligibility assessment will be conducted with up to 17,500 potential study participants over a period of 12 months. To achieve 17,500 potential study participants, lenders will contact approximately 87,500 customers. Additionally, 200 study participants will be asked to participate in semi-structured follow-up interviews that seek to learn about participants' experiences with enrollment and interaction with participating counseling agencies.

In each of the 20 jurisdictions for the study, local counseling agencies and national counseling intermediaries will be recruited to provide (a) online education and telephone counseling and (b) in-person education and counseling. One national provider will be responsible for the online education and telephone counseling. Local counseling agencies will be recruited to provide the in-person education and counseling. In each case, the counseling agencies will be responsible for documenting the counseling services provided to the 4,026 study participants assigned to receive one of these types of counseling (the remaining 2,975 study participants constitute the control group). Staff of the lenders will be asked to participate in semi-structured interviews that seek to understand the recruitment process and provide the study team a weekly outcome report for recruitment calls. Staff at the counseling agencies will be asked to participate in semi-structured interviews that seek to understand provision of counseling in each jurisdiction and provide the study team information on counseling and education services that study participants receive. The purpose of these data collection activities is to collect the information needed to evaluate the impact of pre-purchase housing counseling.

Agency form numbers, if applicable: None.

Estimation of the total numbers of hours needed to prepare the information collection including number of respondents, frequency of response, and hours of response: The average time per client for lender staff to conduct a recruitment call is 3 minutes, with recruitment conducted with up to 87,500 potential homebuyers. The average time per client for the 17,500 potential first-time homebuyers to complete an eligibility assessment is 5 minutes. The average time per client for the 7,000 potential study participants to complete the consent form is 5 minutes. The average time per client for the 7,000 enrolled study participants to complete the baseline survey is 25 minutes. The average time per study participant for the 7,000 enrolled study participants to complete each tracking letter is 5 minutes. There will be 9 tracking letters issued over the course of 3 years. The average time per client for the follow-up interviews is 30 minutes. The average time for each study participant's co-borrower to complete the co-borrower consent agreement is 3 minutes. The average time per client for counseling agencies to document the services provided to study participants is 10 minutes, with responses required for both the educational component and for the counseling services. The average time for counseling agency staff to complete interviews is 60 minutes—up to 8 interviews conducted at up to 40 counseling organizations. The average time for lenders' staff to complete recruitment calls and input the contact information is 3 minutes. The average time for lenders' call center teams to complete the recruitment call outcome report is 30 minutes. These reports will be provided to the study team weekly through the enrollment period. The enrollment period is estimated to last 52 weeks for each lender. The average time for lenders' staff to complete interviews is 60 minutes. Up to 84 staff will be interviewed across 3 lenders. The total burden for the study is 21,056 hours: 14,683 hours for study participants and potential study participants, 105 hours for study participants' co-borrowers, 1,662 hours for counseling agencies, and 4,606 hours for lenders.

Status of the proposed information collection: This is a new collection.

Authority: The Paperwork Reduction Act of 1995, 44 U.S.C. chapter 35, as amended.

Dated: August 15, 2012.
Colette Pollard,
Departmental Reports Management Officer, Office of the Chief Information Officer.

[FR Doc. 2012-20586 Filed 8-21-12; 8:45 am]

BILLING CODE 4210-67-P